SECURITIES AND EXCHANGE COMMISSION

[Release No. 34-45855; International Series Release No. 1257]

List of Foreign Issuers That Have Submitted Information Under the Exemption Relating to Certain Foreign Securities

May 1, 2002.

Foreign private issuers with total assets in excess of $10,000,000 and a class of equity securities held of record by 500 or more persons, of which 300 or more reside in the United States, are subject to registration under Section 12(g) of the Securities Exchange Act of 1934 ¹ (the “Act”).²

¹ 15 U.S.C. 78a et seq.

² Foreign issuers may also be subject to such requirements of the Act by reason of having securities registered and listed on a national securities exchange in the United States, and may be subject to the reporting requirements of the Act by reason of having registered securities under the Securities Act of 1933, 15 U.S.C. 77a et seq.

Rule 12g3-2(b) ³ provides an exemption from registration under Section 12(g) of the Act with respect to a foreign private issuer that submits to the Commission, on a current basis, the material required by the Rule. The informational requirements are designed to give investors access to certain information so they have the opportunity to inform themselves about the issuer. The Rule requires the issuer to provide the Commission with information that it has: (1) Made or is required to make public pursuant to the law of the country of its domicile or in which it is incorporated or organized; (2) filed or is required to file with a stock exchange on which its securities are traded and that was made public by such exchange; and/or (3) distributed or is required to distribute to its securities holders.

³ 17 CFR 240.12g3-2(b).

On October 6, 1983, the Commission revised Rule 12g3-2(b) by terminating the availability of the exemptive rule for certain foreign issuers with securities quoted on an automated inter-dealer quotation system—including the Nasdaq stock market.⁴ The Commission grandfathered indefinitely securities of non-Canadian issuers that were in compliance with the Rule as of October 6, 1983 and quoted on Nasdaq on that date.⁵

⁴ Exchange Act Release No. 20264 (October 6, 1983).

⁵ If, however, the securities are delisted from an automated inter-dealer quotation system or if the issuer fails to meet the requirements of the Rule, the grandfather provision will cease to apply. In addition, effective April 1, 1998, the securities of foreign private issuers that claim the Rule 12g3-2(b) exemption are no longer able to be quoted on the OTC Bulletin Board Service. See Exchange Act Release No. 38456 (March 31, 1997).

When the Commission adopted Rule 12g3-2(b) and other rules ⁶ relating to foreign securities, it indicated that from time to time it would publish lists showing those foreign issuers that have claimed exemptions from the registration provisions of Section 12(g) of the Act.⁷ The purpose of this release is to call to the attention of brokers, dealers and investors, that some form of relatively current information concerning the issuers included in this list is available in the Commission's public files.⁸ The Commission also wishes to bring to the attention of brokers, dealers, and investors the fact that current information concerning foreign issuers may not necessarily be available in the United States.⁹ The Commission continues to expect that brokers and dealers will consider this fact in connection with their obligations under the federal securities laws to have a reasonable basis for recommending those securities to their customers.¹⁰

⁶ Exchange Act Release No. 8066 (April 28, 1967).

⁷ Exchange Act Release No. 41384 (May 10, 1999) was the last such list.

⁸ Inclusion of an issuer on the list in this release is not an affirmation by the Commission that the issuer has complied or is complying with all the conditions of Rule12g3-2(b). The list does identify those issuers that have both claimed the exemption and have submitted relatively current information to the Commission as of April 4, 2002.

⁹ Paragraph (a)(4) of Rule 15c2-11 [17 CFR 240.15c2-11] requires a broker-dealer initiating a quotation for securities of a foreign private issuer to review, maintain in its files, and make reasonably available upon request, the information furnished to the Commission pursuant to Rule 12g3-2(b) since the beginning of the issuer's last fiscal year.

¹⁰ See, e.g., Hanley v. SEC, 415 F.2d 589 (2d Cir. 1969) (broker-dealer cannot recommend a security unless an adequate and reasonable basis exists for such recommendation).

Direct any questions regarding Rule 12g3-2 or the list of issuers in this release to Michael Coco, Office of International Corporate Finance, Division of Corporation Finance, Securities and Exchange Commission, Washington, DC 20549-0302 ((202) 942-2990). This release is available on the Commission's Web site: www.sec.gov. Requests for copies may also be directed to the Public Reference Room, Securities and Exchange Commission, Washington, DC 20549-0102 ((202) 942-8090).

For the Commission, by the Division of Corporation Finance, pursuant to delegated authority.
Jill M. Peterson,
Assistant Secretary.

Company name | Country | File No.
10 Group plc | United Kingdom | 82-5229
701 Com Corp | Canada | 82-5119
AB Lietuvos Telekomas | Lithuania | 82-5086
ABB AB | Sweden | 82-736
Accor S.A | France | 82-4672
Aceralia Corporacion Siderurgica S.A | Spain | 82-4967
ACOM Co. Ltd | Japan | 82-4121
Adidas Saloman AG | Germany | 82-4278
AEM S.p.A | Italy | 82-4911
Aeroflot Russian International Airlines | Russia | 82-4592
AES Tiete S.A | Brazil | 82-3691
Africa Gem Resources | South Africa | 82-34638
African Marine Materials Corp | Canada | 82-3329
Afrikander Lease Ltd | South Africa | 82-34632
Agau Resources Inc | Canada | 82-4769
Agenix Limited | Australia | 82-34639
Agora S.A | Poland | 82-4941
AIFUL Corp | Japan | 82-4802
Air France | France | 82-5050
Airtours plc | United Kingdom | 82-5049
Albert Fisher Group plc | United Kingdom | 82-1020
Aldeasa S.A | Spain | 82-4774
Alive International Inc | Canada | 82-5056
Alktek Power Corp | Canada | 82-3219
Allgreen Properties Ltd | Singapore | 82-4959
Allied Domecq plc | United Kingdom | 82-878
Alpha General (Holdings) Ltd | Bermuda | 82-34649
Altai Resources, Inc | Canada | 82-2950
Amadeus Global Travel Distribution S.A | Spain | 82-5173
America Telecom S.A. de C.V | Mexico | 82-34636
American Comstock Exploration | Canada | 82-3283
American Manor Corp | Canada | 82-4158
Amoy Properties Ltd | Hong Kong | 82-3410
AMRAD Corp. Ltd | Australia | 82-4867
AmSteel Corp Berhad | Malaysia | 82-3318
Angkasa Marketing Berhad | Malaysia | 82-3319
Anglo American Corp. of South Africa | South Africa | 82-97
Anglo Irish Bank Corp. plc | Ireland | 82-3791
AO Novgorodtelecom | Russia | 82-4840
AO Samaraenergo | Russia | 82-4708
AO Siberian Oil Company | Russia | 82-4882
AO Surgutneftegas | Russia | 82-4302
Apasco | Mexico | 82-3103
APF Energy Trust | Canada | 82-5166
Applied Gaming Solutions | Canada | 82-4832
Applied Optical Technologies plc | United Kingdom | 82-5165
Aquarius Platinum Ltd | Bermuda | 82-5097
Archon Minerals Ltd | Canada | 82-4171
Arcon International Resources plc | Ireland | 82-4803
Argent Resources Ltd | Australia | 82-5091
Arisawa Manufacturing Co. Ltd | Japan | 82-4620
Asia Fiber plc | Thailand | 82-2842
Asiana Airlines | Korea | 82-5171
Australian Oil & Gas Corp. Ltd | Australia | 82-4576
Austrian Airlines | Austria | 82-4970
Auterra Ventures Inc | Canada | 82-4653
Avalon Ventures Ltd | Canada | 82-4427
Avgold Ltd | South Africa | 82-4482
BAA plc | United Kingdom | 82-3372
Bacardi Ltd | Bermuda | 82-4992
Bambuu Ltd | Australia | 82-4872
Banca Popolare di Brescia | Italy | 82-4662
Banca Popolare di Lodi | Italy | 82-4855
Banco Mercantil S.A | Bolivia | 82-4296
Bandai Co | Japan | 82-3919
Bangkok Bank Public Co. Ltd | Thailand | 82-4835
Bank Handlowy w Warszawie | Poland | 82-4613
Bank of East Asia Ltd | Hong Kong | 82-3443
Bank of Fukuoka Ltd | Japan | 82-1117
Bank of Nova Scotia | Canada | 82-132
Bank of Scotland | United Kingdom | 82-3240
Bank Vozrozhdeniye | Russia | 82-4257
BankInter S.A | Spain | 82-2972
BC Gas Inc | Canada | 82-3909
BCE Emergis Inc | Canada | 82-5206
Beghin Say | France | 82-5209
Beijing Beida Jade Bird Universal Sci-Tech Co | China | 82-34651
Beijing Datang Power Generation Co. Ltd | China | 82-5186
Beijing Enterprises Holdings Ltd | Hong Kong | 82-34642
Belluna Co. Ltd | Japan | 82-5233
Beta Systems Software AG | Germany | 82-4631
Billerud AB | Sweden | 82-34625
Billiton plc | United Kingdom | 82-4647
Blackrock Ventures Inc | Canada | 82-4555
Blue Power Energy Corp | Canada | 82-2213
Bohler Uddeholm AG | Austria | 82-4089
Boliden Ltd | Canada | 82-4707
Bombardier Inc | Canada | 82-3123
Bonus Resource Services Corp | Canada | 82-1162
Borealis Exploration Ltd | Canada | 82-1656
Bradford and Bingley plc | United Kingdom | 82-5154
Brambles Industries plc | United Kingdom | 82-5205
Brasilca Mining Corp | Canada | 82-2257
Bresagen Ltd | Australia | 82-5135
Bridgestone Corp | Japan | 82-1264
British Aerospace plc | United Kingdom | 82-3138
Burns Philip & Company Ltd | Australia | 82-1565
BWI Resources | Canada | 82-2914
BWT Aktiengesellschaft | Austria | 82-5221
C.I. Fund Management Inc | Canada | 82-4994
Canadian Everock Exploration | Canada | 82-5163
Canadian Hunter Exploration Ltd | Canada | 82-5002
Canadian Hydro Developers | Canada | 82-3347
Canadian Metals Corp. Ltd | Canada | 82-2143
Canadian Oil Sands Trust | Canada | 82-5189
Canadian Western Bank | Canada | 82-4478
CanBaikal Resources | Canada | 82-4694
Cap Gemini S.A | France | 82-5065
Capio AB | Sweden | 82-5108
Capitaland Ltd | Singapore | 82-4507
Carribean Cement Co. Ltd | Jamaica | 82-3715
Carso Global Telecom | Mexico | 82-4379
Cassa di Risparmio di Firenze S.p.A | Italy | 82-5126
Cathay Pacific Airlines | Hong Kong | 82-1390
Caussa Capital Corp | Canada | 82-3858
Cementos Lima S.A | Peru | 82-3911
Central Termica Guemas | Argentina | 82-5145
Cereol | France | 82-5210
Cerestar | France | 82-5211
Cerveceria Nacional S.A | Panama | 82-4704
Ceska Sporitelna A.S | Czech Republic | 82-4384
Challenger Minerals Ltd | Canada | 82-3666
Champion Technology Holdings Ltd | Hong Kong | 82-3442
Chaoda Modern Agriculture Holdings Ltd | Cayman Islands | 82-34644
Cheung Kong Holdings Ltd | Hong Kong | 82-4138
China Online Bermuda Ltd | Bermuda | 82-3654
China Pharmaceutical Enter/In. Co | Hong Kong | 82-4135
China Steel Corp | China | 82-3296
China Strategic Holdings Ltd | Hong Kong | 82-3596
Cho Hung Bank | Korea | 82-4506
Cia Forca y Luz Cataguases Leopoldina | Brazil | 82-5147
Circle Energy Inc | Canada | 82-4586
CITIC Pacific Ltd | China | 82-5232
Clarica Life Insurance | Canada | 82-4988
Claude Resources Inc | Canada | 82-1742
Coca Cola Hellenic Bottling | Greece | 82-5180
Coca-Cola Amatil Ltd | Australia | 82-2994
Colony Pacific Explorations Ltd | Canada | 82-1115
Commonwealth Energy Corp | Canada | 82-4805
Compagnie Des Machines Bull | France | 82-4847
Companhia de Transmissao de Energeria | Brazil | 82-4980
Companhia Energetica de Sao Paulo | Brazil | 82-3691
Companhia Siderurgica Belgo Mineira | Brazil | 82-3771
Companhia Suzano De Papel E Celulose | Brazil | 82-3550
Compass Group plc | United Kingdom | 82-5161
Computershare Ltd | Australia | 82-4966
Concept Wireless Inc | Canada | 82-4003
Consolidated Odyssey Exploration Inc | Canada | 82-3934
Consolidated Pine Channel Gold Corp | Canada | 82-2583
Consolidated Westview Resource Corp | Canada | 82-2601
Consorcio Ara S.A. de C.V | Mexico | 82-4380
Continental AG | Germany | 82-1357
Continental Precious Minerals Inc | Canada | 82-3358
Cora Resources Ltd | Canada | 82-4571
Corporacion Financiera del Valle S.A | Colombia | 82-3437
Corporacion Geo S.A. de C.V | Mexico | 82-3870
Corriente Resources Inc | Canada | 82-3775
Credit Communai Holding Dexia Belgium | Belgium | 82-4606
Cross Lake Minerals Ltd | Canada | 82-2636
CSX Corporations | Japan | 82-781
Curion Venture Corp | Canada | 82-3602
Cybrid Co. Ltd | Japan | 82-5139
Dah Sing Financial Holdings Ltd | Hong Kong | 82-4272
Dai'ei Inc | Japan | 82-230
Dairy Farm International Holdings Ltd | Hong Kong | 82-2962
David Jones Ltd | Australia | 82-4230
Davide Campari Milano S.p.A | Italy | 82-5203
De Beers Centenary AG | Switzerland | 82-3069
De Beers Consolidated Mines, Ltd | South Africa | 82-91
Delmonte Pacific Ltd | British Virgin Islands | 82-5068
Den Danske Bank AF 1871 AG | Denmark | 82-1263
Dentsu Inc | Japan | 82-5241
Deutsche Lufthansa AG | Germany | 82-4691
Development Bank of Singapore | Singapore | 82-3172
Devine Entertainment Corp | Canada | 82-4118
Diseno Textil S.A | Spain | 82-5185
Dofasco Inc | Canada | 82-3226
DSM N.V | Netherlands | 82-3120
E New Media Co. Ltd | Hong Kong | 82-5101
East Japan Railway Co | Japan | 82-4990
Eastmain Resources Inc | Canada | 82-4421
Editora Saraiva S.A | Brazil | 82-5046
Egg plc | United Kingdom | 82-5088
EI Environmental Engineering Concepts | Canada | 82-1598
Eisai Co. Ltd | Japan | 82-4015
Email Ltd | Australia | 82-2951
Emgold Mining Corp | Canada | 82-3003
EMI Group plc | United Kingdom | 82-373
Empire Alliance Properties Inc | Canada | 82-2215
Energy Africa Ltd | South Africa | 82-4306
Epic Oil and Gas Ltd | Canada | 82-5045
Epsilon AB | Sweden | 82-5177
Erciyas Biracilik & Malt Sanayi | Turkey | 82-4144
ERG S.p.A | Italy | 82-4745
Erste Bank | Austria | 82-5066
Essilor International | Canada | 82-4944
Eurotunnel plc | United Kingdom | 82-3000
Eurotunnel S.A | France | 82-2999
Evergreen Forests Ltd | New Zealand | 82-4114
Evergreen Marine Corp. Ltd Taiwan | China | 82-4420
Ezenet Corp | Canada | 82-4976
Fancamp Resources Ltd | Canada | 82-3929
FANCL Corporation | Japan | 82-5032
Fantastic Corporation | Switzerland | 82-5115
Federation Group Ltd | Australia | 82-5194
Fedsure Holdings Ltd | South Africa | 82-3839
First Australian Resources N.L | Australia | 82-3494
First Pacific Co. Ltd | Hong Kong | 82-836
First Quantum Minerals Ltd | Canada | 82-4461
First Silver Reserve Inc | Canada | 82-3449
First Tractor Company Ltd | China | 82-4772
FJA AG | Germany | 82-5077
Fortis Amev | Belgium | 82-3118
Fortis S.A./N.V | Belgium | 82-5234
Foschini Ltd | South Africa | 82-4044
Fosters Brewing Group Ltd | Australia | 82-1711
Four Imprint Group plc | United Kingdom | 82-5104
Franc Or Resources Corp | Canada | 82-4164
Friends Provident plc | United Kingdom | 82-34640
Frontier Minerals Inc | Canada | 82-2546
Frutarom Industries 1995 Ltd | Israel | 82-4357
Fuji Bank Ltd | Japan | 82-4492
Fuji Photo Film Co. Ltd | Japan | 82-78
Fuji Television Network | Japan | 82-5176
Fujisawa Pharmaceutical Co. Ltd | Japan | 82-5231
Fujitsu Support and Service | Japan | 82-4885
Funai Electric Ltd | Japan | 82-5078
Future Link Systems Inc | Canada | 82-2406
G. Accion S.A. de C.V | Mexico | 82-4590
Galaxy Online Inc | Canada | 82-5099
Genbel South Africa | South Africa | 82-235
Gencor Ltd | South Africa | 82-311
Generale de Sante S.A | France | 82-34626
Genetic Technologies Ltd | Australia | 82-34627
Genting Berhad | Malaysia | 82-4962
Geo 2 Ltd | Australia | 82-4499
Gerle Gold Ltd | Canada | 82-1209
Giordano Holdings Ltd | Hong Kong | 82-3780
Gitennes Exploration Inc | Canada | 82-4170
Givuadan S.A | Switzerland | 82-5087
GKN plc | United Kingdom | 82-1042
Glanbia Public Ltd | Ireland | 82-4734
Global Direct Inc | Canada | 82-5084
Glorius Sun Enterprises Ltd | Bermuda | 82-4581
Golconda Resources Ltd | Canada | 82-3167
Gold Fields of South Africa Ltd | South Africa | 82-204
Gold Peak Industries (Holdings) Ltd | Canada | 82-3604
Goldas Kuyumculuk Sanayi Ithalat Ihracat AS | Turkey | 82-5223
Goldcliff Resources Corp | Canada | 82-2748
Golden Arch Resources Ltd | Canada | 82-659
Golden Hope Mines Ltd | Canada | 82-3023
Goldsat Mining Inc | Canada | 82-5000
Goodman Fielder Ltd | Australia | 82-2009
Govett Strategic Investment Trust plc | United Kingdom | 82-287
Grand Hotel Holdings Ltd | Hong Kong | 82-3408
Grasim Industries Ltd | India | 82-3322
Great Eagle Holdings Ltd | Bermuda | 82-3940
Great Quest Metals Ltd | Canada | 82-3116
Great Universal Stores plc | United Kingdom | 82-5017
Greater China Technology | Cayman Islands | 82-5096
Grupo Auxiliar Metalurgico S.A | Spain | 82-5201
Grupo Carso S.A. de C.V | Mexico | 82-3175
Grupo Dataflux | Mexico | 82-4899
Grupo Ferrovial S.A | Spain | 82-4939
Grupo Financiero Bancomer S.A. de C.V | Mexico | 82-3273
Grupo Financiero Santander Mexicano | Mexico | 82-3447
Grupo Gigante, S.A. de C.V | Mexico | 82-3142
Grupo Industrial Saltillo | Mexico | 82-5019
Grupo Melo S.A | Panama | 82-4893
Grupo Mexico S.A. de C.V | Mexico | 82-4582
Grupo Posadas S.A. de C.V | Mexico | 82-3274
GTECH International Resources Ltd | Canada | 82-3779
Guangdong Investments Ltd | Hong Kong | 82-3772
Guangzhou Investment Co. Ltd | Hong Kong | 82-4247
Gzitic Hauling Holdings Ltd | Hong Kong | 82-4195
H. Lundbeck A.S | Denmark | 82-4973
Hagemeyer N.V | Netherlands | 82-4865
Halifax Group plc | United Kingdom | 82-5003
Hang Seng Bank Ltd | Hong Kong | 82-1747
Hansom Eastern Holdings Ltd | Cayman Islands | 82-4152
HBOS plc | United Kingdom | 82-5222
Heineken Holding N.V | Netherlands | 82-5149
Heineken N.V | Netherlands | 82-4953
Henderson Investment Ltd | Hong Kong | 82-3964
Henderson Land Development Co. Ltd | Hong Kong | 82-1561
Henkel KGAA | Germany | 82-4437
Henlys Group plc | United Kingdom | 82-5051
Herald Resources Ltd | Australia | 82-4295
Highveld Steel & Vanadium Corp. Ltd | South Africa | 82-596
Hikari Tsushin Inc | Japan | 82-4998
Hindalco Industries Ltd | India | 82-3428
Hoganas AB | Sweden | 82-3754
Hokuriku Bank Ltd | Japan | 82-1045
Homeproject Com Inc | Canada | 82-4782
Hong Kong & China Gas Co. Ltd | Hong Kong | 82-1543
Hong Kong Construction Holdings | Hong Kong | 82-4029
Hornbach-Baumarkt AG | Germany | 82-3729
Housing Bank | Jordan | 82-5016
HTI Ventures Corp | Canada | 82-1535
Hypothekenbank in Essen AG | Germany | 82-4883
Hyundai Motor Company | Korea | 82-3423
I One Net International Ltd | Canada | 82-5074
I.T.C. Limited | India | 82-3470
IEM S.A. de C.V | Mexico | 82-2337
IKPC | Brazil | 82-3797
Impala Platinum Holdings Ltd | South Africa | 82-359
Imperial Metals Corp | Canada | 82-1032
Imperial One International Ltd | Australia | 82-1257
Inapa Investimentos Participacoes e Gesta | Portugal | 82-4864
Inca Pacific Resources Inc | Canada | 82-1665
Indian Oil Corp. Ltd | India | 82-4894
Indusmin Energy Corp | Canada | 82-4833
Industrial Bank of Japan | Japan | 82-4752
Inepar S.A. Industria y Construcoes | Brazil | 82-5105
Intelsat Ltd | Bermuda | 82-5214
Interbrew S.A./N.V | Netherlands | 82-5159
International Chargold Resources Ltd | Canada | 82-4385
International Company for Food Industries | Egypt | 82-5094
International Health Partners Inc | Canada | 82-4868
International Parkside Products Inc | Canada | 82-2794
International PBX Ventures Ltd | Canada | 82-2635
International Road Dynamics Inc | Canada | 82-3899
Internet Identity Presence Co. Inc | Canada | 82-478
Interpump Group S.p.A | Italy | 82-4511
Interstar Mining Group. Inc | Canada | 82-3759
Invensys plc | United Kingdom | 82-2142
IP Applications Corp | Canada | 82-34637
Iscor Ltd | South Africa | 82-3826
Italian Thai Development Public Co. Ltd | Thailand | 82-4299
Itech Capital Corp | Canada | 82-3200
Jamaica Broilers Group Ltd | Jamaica | 82-3720
Jannok Properties Ltd | Canada | 82-5062
Japan Satellite Systems | Japan | 82-5111
Japan Telecom Co | Japan | 82-3943
Jardine Matheson Holdings Ltd | Hong Kong | 82-2963
Jardine Strategic Holdings Ltd | Bermuda | 82-3085
Jasmine International plc | Thailand | 82-4876
JC Decaux S.A | France | 82-34631
JD Group Limited | South Africa | 82-4401
JG Summit Holdings Inc | Philippines | 82-3572
Jinhui Holdings Co | Hong Kong | 82-3765
Jinhui Shipping and Transportation Ltd | Bermuda | 82-4054
JNR Resources Inc | Canada | 82-4720
John Keells Holdings Ltd | Sri Lanka | 82-3854
Johnnic Communications Ltd | South Africa | 82-5184
Johnnic Holdings Ltd | South Africa | 82-5128
Johnson Electric Holdings | Hong Kong | 82-2416
Johnson Matthey plc | United Kingdom | 82-2272
Jordan Kuwait Bank | Jordan | 82-5085
JS Central Telecommunication Co | Russia | 82-5198
JSC Buryatzoloto | Russia | 82-4619
JSC Irkutskenergo | Russia | 82-4458
JSC Khantymansiyskokrtelecom | Russia | 82-4823
JSC Lenenergo | Russia | 82-5102
JSC Moscow City Telephone Network | Russia | 82-4957
JSC Nizhegorodsvyasinform | Russia | 82-4642
JSC Primorsk Shipping Corp | Russia | 82-4717
JSC Uralsvyasinform | Russia | 82-4545
JSC Zaporizhtransformator | Ukraine | 82-4995
Jumptec Industrielle Computertechnik AG | Germany | 82-4989
Justsystem Corp | Japan | 82-4732
K Wah Construction Materials Ltd | Hong Kong | 82-3850
Kawasaki Heavy Industries Ltd | Japan | 82-4389
Kawasaki Steel Corp | Japan | 82-3389
Kelso Technologies Inc | Canada | 82-2441
Keyworld Investments plc | United Kingdom | 82-5193
KGHM Polska Miedz S.A | Poland | 82-4639
Kidde plc | United Kingdom | 82-5153
Kidston Gold Mines Ltd | Australia | 82-2351
Kimberly Clark de Mexico | Mexico | 82-3308
King Pacific International Holdings Inc | Bermuda | 82-3655
Kingfisher plc | United Kingdom | 82-968
Kirin Brewery Co | Japan | 82-188
Klabin S.A | Brazil | 82-34628
Kobe Steel Ltd | Japan | 82-3371
Komercni Banka A.S | Czech Republic | 82-4154
Krones AG | Germany | 82-3871
Kumba Resources Ltd | South Africa | 82-5217
L'Air Liquide S.A | France | 82-5224
Landesbank Rheinland-Phalz | Germany | 82-4930
Lasik Vision Corp | Canada | 82-5031
Lattice Group plc | United Kingdom | 82-5110
Legend Holdings Ltd | Hong Kong | 82-3950
Lend Lease Corp. Ltd | Australia | 82-3498
Lenzing AG | Austria | 82-3207
LG Electronics Inc | Korea | 82-3857
Liberty Life Association of South Africa | South Africa | 82-3924
Lindsey Morden Group | Canada | 82-5143
Lingo Media Inc | Canada | 82-4877
Lion Land Berhad | Malaysia | 82-3342
Loblaw Companies Ltd | Canada | 82-4918
Lonrho Africa plc | United Kingdom | 82-4753
Louis Dreyfus Citrus S.A | France | 82-4505
Lucero Resource Corp | Canada | 82-1756
Magician Industries Holdings Inc | Bermuda | 82-4358
Magin Energy Inc | Canada | 82-5100
Makro Atacadista S.A | Brazil | 82-4095
Malbak Ltd | South Africa | 82-3751
Man Group plc | United Kingdom | 82-4214
Mandarin Oriental International Ltd | Hong Kong | 82-2955
Manila Electric Co | Philippines | 82-3237
Maple Minerals Inc | Canada | 82-3650
Market Age plc | United Kingdom | 82-5230
Marks and Spencer plc | United Kingdom | 82-1961
Matsui Securities Co. Ltd | Japan | 82-5215
Maximum Resources Inc | Canada | 82-3923
Mayr Melnhof Karton | Austria | 82-4052
M-Cell Ltd | South Africa | 82-5192
MCK Mining Corp | Canada | 82-3938
Medallion Resources Ltd | Canada | 82-3656
Menzies Gold N.L | Australia | 82-4536
Mercantil Servicios Financieros C.A | Venezuela | 82-4648
Meteor Technologies Inc | Canada | 82-2442
Metro Cash & Carry Ltd | South Africa | 82-4279
Michael Page International plc | United Kingdom | 82-5162
Michelin Compagnie Generale des Etablissements | France | 82-3354
MIM Holdings Ltd | Australia | 82-173
Minebea Co. Ltd | Japan | 82-4551
Minto Explorations Ltd | Canada | 82-4119
Mishibishu Gold Corp | Canada | 82-2682
Misr International Bank S.A.E | Egypt | 82-4629
Mitsubishi Corp | Japan | 82-3784
Mitsui Marine and Fire Insurance Co. Ltd | Japan | 82-4755
MJ Maillis S.A | Greece | 82-4975
Mobistar N.V./S.A | Belgium | 82-4965
Morgan Crucible Co. plc | United Kingdom | 82-3387
Mount Burgess Gold Mining Co | Australia | 82-1235
NABI North American Bus Industries RT | Hungary | 82-4925
Nadro S.A. de C.V | Mexico | 82-4611
Name Brand Sales Inc | Canada | 82-5218
Nampak Limited | South Africa | 82-3714
National Bank of Canada | Canada | 82-3764
Neopost S.A | France | 82-5080
Neptune Orient Lines Ltd | Singapore | 82-2605
Nestle S.A | Switzerland | 82-1252
Netstore plc | United Kingdom | 82-5152
New GKN | United Kingdom | 82-5204
New World Infrastructure Ltd | Hong Kong | 82-4218
New Zurich Financial | Switzerland | 82-5089
Newsplayer Group plc | United Kingdom | 82-5187
NIB Capital Bank | Netherlands | 82-5098
Nippon Steel Corp | Japan | 82-5175
Nissan Motor Co | Japan | 82-207
Norilsk Nickel | Russia | 82-4270
Norilsk Nickel Mining Metallurgical Co | Russia | 82-5167
Norske Skogindustrier ASA | Norway | 82-5226
North Ltd | Australia | 82-2531
Northern Abitibi Mining Corp | Canada | 82-4749
Novar plc | United Kingdom | 82-4542
Novozymes AS | Denmark | 82-5116
NTS Computer Systems Ltd | Canada | 82-4354
Nuinsco Resources Ltd | Canada | 82-1846
Nutreco Holdings N.V | Netherlands | 82-4927
Nyzhniodniprovsky Pipe Rolling Plant | Ukraine | 82-4814
OAO Oil Co. Yukos | Russia | 82-4209
Occupational & Medical Innovations Ltd | Australia | 82-5174
OJS Electrosvyaz Rostov Region | Russia | 82-4740
OJS Ukrnafta | Ukraine | 82-4859
OJSC Dniproenergo | Ukraine | 82-4844
OJSC Electrosvyaz of Novosibirsk Region | Russia | 82-5199
OJSC Electrosvyaz of Primorsky Region | Russia | 82-5200
OJSC Kubanelectrosvyaz | Russia | 82-4721
OJSC Petersburg Telephone Network | Russia | 82-5197
Old Mutual plc | United Kingdom | 82-4974
Olivetti S.p.A | Italy | 82-5181
Omega Projects Co. Ltd | Canada | 82-5030
One Steel Ltd | Australia | 82-5103
Onfem Holdings Ltd | Bermuda | 82-3735
OPP Petroquimica S.A | Brazil | 82-4287
Orange S.A | France | 82-5168
Orbis S.A | Poland | 82-5025
Oriole Systems Inc | Canada | 82-5137
Osterreichische Elektrizitatswirtschafts | Austria | 82-4381
Pacific Andes Int'l Holdings Ltd | Bermuda | 82-4031
Pacific Stratus Ventures Ltd | Canada | 82-5158
Pacific Topaz Resources Ltd | Canada | 82-1285
Pacmin Mining Corp. Ltd | Australia | 82-4550
Panafon Hellenic Telecommunications | Greece | 82-4969
Paperlinx Ltd | Australia | 82-5061
Paranapanema S.A | Brazil | 82-5083
Paul Y ITC Construction Holdings Ltd | Hong Kong | 82-4217
Pearl Oriental Cyberforce Ltd | Bermuda | 82-4350
Perfect Fry Corp | Canada | 82-1609
Pernod Ricard S.A | France | 82-3361
Pharmexa A.S | Denmark | 82-5196
Phoenix Canada Oil Co. Ltd | Canada | 82-3936
Pinault Printemps Redoute | France | 82-5179
Pinetree Capital Corp | Canada | 82-2759
PixelNet AG | Germany | 82-5236
Poineer International Ltd | Australia | 82-2701
Polski Koncern Naftowy | Poland | 82-5036
Power Corp. of Canada | Canada | 82-137
Power Financial Corp | Canada | 82-1716
Prana Biotechnology Ltd | Australia | 82-5122
Prokom Software S.A | Poland | 82-4700
Promatek Industries Ltd | Canada | 82-1351
Promise Co. Ltd | Japan | 82-4837
Promotora de Informaciones | Spain | 82-5213
Provimi | France | 82-5212
PSP Swiss Property AG | Switzerland | 82-5052
PT Multimedia Servicos de Telecommunicacoes | Portugal | 82-5059
PTT Exploration & Production plc | Thailand | 82-3827
Puma AG Rudolf Dassler Sport | Germany | 82-4369
Q P Corporation | Japan | 82-4750
Quantas Airways | Australia | 82-4130
Rabobank Nederland | Netherlands | 82-5010
Radio Gaucha S.A | Brazil | 82-4341
Raffles Medical Group | Singapore | 82-4926
RAO Gazprom | Russia | 82-4670
RAO Unified Energy Systems | Russia | 82-4077
Raptor Capital Corporation | Canada | 82-4599
Raytec Capital Corp | Canada | 82-3553
RBS Participacoes S.A | Brazil | 82-4338
RBS TV de Florianopolis S.A | Brazil | 82-4340
Redmond Ventures Corp | Canada | 82-842
Rembrandt S.A. Ltd | South Africa | 82-5106
Rentokil Group plc | United Kingdom | 82-3806
Resorts World Berhad | Malaysia | 82-3229
Rhodia-Ster S.A | Brazil | 82-3942
Rich Minerals Corp | Canada | 82-2832
Roadshow Holdings Ltd | Bermuda | 82-5208
Roche Holding Ltd | Switzerland | 82-3315
Rock Resources Inc | Canada | 82-4504
Rolls-Royce plc | United Kingdom | 82-2821
Romios Gold Resources | Canada | 82-5093
Rosneftegazstroy | Russia | 82-4597
RWE AG | Germany | 82-4018
S Oil Corp | Korea | 82-34630
S&T System Integration Technology | Austria | 82-34634
S.A. Fabrica de Productos Alimenticios | Brazil | 82-4870
Sage Group Ltd | South Africa | 82-4241
Sahaviriya Steel Industries plc | Thailand | 82-5008
SAIA-Burgess Electronics | Switzerland | 82-4810
Sainsbury J. plc | United Kingdom | 82-913
Saipem S.p.A | Italy | 82-4776
Sakura Bank Ltd | Japan | 82-3055
Sammy Corporation | Japan | 82-5227
Sam's Seafood Holdings Ltd | Australia | 82-34648
Samsung Electronics Co. Ltd | Korea | 82-3109
Sancor Cooperativas Unidas Ltd | Argentina | 82-4476
Sandvik AB | Sweden | 82-1463
Santos Ltd | Australia | 82-34
Sanwa Bank Ltd | Japan | 82-4711
Sanyo Electric Co | Japan | 82-264
Saskatchawan Wheat Pool | Canada | 82-5037
Sasol Ltd | South Africa | 82-631
Scandanavia Online A.B | Sweden | 82-5178
Schwartz Pharma AG | Germany | 82-34641
Sekisui House Ltd | Japan | 82-5129
Sembcorp Industries Ltd | Singapore | 82-5109
Sennen Resources | Canada | 82-2238
Shanghai Industrial Holdings Ltd | China | 82-5160
Shangra La Asia Ltd | Bermuda | 82-5006
Sharp Corp | Japan | 82-1116
Shinawata Satellite Public Co. Ltd | Thailand | 82-4527
Shiseido Company Ltd | Japan | 82-3311
Shun Tak Holdings | Hong Kong | 82-3357
SIA Engineering Co. Ltd | Singapore | 82-5123
Siam Commercial Bank Public Co. Ltd | Thailand | 82-4345
Sigma AB | Sweden | 82-5228
Silverarrow Explorations Inc | Canada | 82-2945
Sime Darby Berhad | Malaysia | 82-4968
Simsmetal Ltd | Australia | 82-3838
Singapore Airport Terminal Services Ltd | Singapore | 82-5117
Singapore Telecommunications Ltd | Singapore | 82-3622
Singer N.V | Netherlands | 82-34635
Skandia Insurance Co. Ltd | Sweden | 82-5079
Sky Perfect Communications | Japan | 82-5113
Slovnaft A.S | Russia | 82-3721
Smartone Telecommunications | Bermuda | 82-5114
Smith Howard Ltd | Australia | 82-4538
Societe Generale | France | 82-3501
Sogecable S.A | Spain | 82-4981
Sons of Gwalia N.L | Australia | 82-1039
South China Morning Post | Hong Kong | 82-3327
Southcorp Holdings Ltd | Australia | 82-2692
Southern Pacific Petroleum N.L | Australia | 82-353
St. Dupont S.A | France | 82-4552
St. Jude Resources Ltd | Canada | 82-4014
Standard Chartered plc | United Kingdom | 82-5188
Starlight International Holdings Ltd | Bermuda | 82-3594
Starrex Mining Corp | Canada | 82-3755
State Bank of India | India | 82-4524
Statoil den Norske Stats Oljeselskap AS | Norway | 82-3444
Stina Resources Ltd | Canada | 82-2062
Stratabound Minerals Corp | Canada | 82-3284
Strategic Technologies Inc | Canada | 82-1548
Studsvisk AB | Sweden | 82-5172
Sumitomo Minerals Corp | Japan | 82-3507
Sumitomo Mitsui Banking Corp | Japan | 82-4395
Sumitomo Trust & Banking Co. Ltd | Japan | 82-4617
Sun Hung Kai Properties Ltd | Hong Kong | 82-1755
Svenka Cellulosa Aktiebologot | Sweden | 82-763
Svyazinform of Samara | Russia | 82-4889
Swire Pacific Ltd | Hong Kong | 82-2184
Swiss Reinsurance Co | Switzerland | 82-4248
Synex International Inc | Canada | 82-862
Tabcorp Holdings Ltd | Australia | 82-3841
Tai Cheung Holdings Ltd | Bermuda | 82-3528
Taylor Nelson AGB plc | United Kingdom | 82-4668
Technovision Systems | Canada | 82-5069
Telefonica Data Brasil Holding | Brazil | 82-5151
Telefonica Data Peru Holding S.A.A | Peru | 82-34646
Telefonica Moviles Peru Holding S.A.A | Peru | 82-34645
Telepizza | Spain | 82-5001
Televisao Gaucha S.A | Brazil | 82-4339
Tennyson Networks Ltd | Australia | 82-5138
TFS | Switzerland | 82-5095
Thai Telephone and Telecommunications | Thailand | 82-3744
THUS Group plc | United Kingdom | 82-34650
Timebeat Com Enterprises Inc | Canada | 82-2622
TNR Resources Ltd | Canada | 82-4434
Tofas Turk Otomobil Fabrikasi AS | Turkey | 82-3699
Tokai Bank Ltd | Japan | 82-4811
Tomorrow International Holdings Ltd | Bermuda | 82-4256
T-Online International AG | Germany | 82-5125
Toyobo Co | Japan | 82-1172
Toyoda Automatic Loom Works | Japan | 82-5112
Toys “R” Us Japan Ltd | Japan | 82-5073
Tradehold Ltd | South Africa | 82-5238
Transportadora de Gas del Norte S.A | Argentina | 82-3845
Trio Gold Corp | Canada | 82-2127
Truly International Holdings | Cayman Islands | 82-3700
Trust Company of Australia Ltd | Australia | 82-1443
Tsingtao Brewery Company Ltd | China | 82-4021
Tullow Oil plc | United Kingdom | 82-5202
Tyumen Air Company | Russia | 82-4789
UJF Holdings Inc | Japan | 82-5169
Unaxis AG | Switzerland | 82-34643
UNI President Enterprises Co | Taiwan | 82-3424
Union Miniere S.A | Belgium | 82-3876
United Bank for Africa plc | Nigeria | 82-4804
United Media Ltd | Canada | 82-3859
USA Video Interactive Corp | Canada | 82-1601
Usinas Siderurgicas de Minas Gerais S.A | Brazil | 82-3902
Valeo S.A | France | 82-3668
Valerie Gold Resources Ltd | Canada | 82-3339
Vanguard Oil Corp | Canada | 82-5148
Vedior N.V | Netherlands | 82-4654
Velcro Industries. N.V | Neth. Ant. | 82-145
Venfin Ltd | South Africa | 82-3760
Veos plc | United Kingdom | 82-5220
Viceroy Resource Corp | Canada | 82-1193
Viktor Lenac Shipyard D.D. Rijeka | Croatia | 82-5219
Village Roadshow Ltd | Australia | 82-4513
Vinci | France | 82-4781
Virotec International Ltd | Australia | 82-5090
Vodafone Telecel Comunicacoe Pessoais S.A | Portugal | 82-4528
Vodatel Networks Holdings Ltd | Bermuda | 82-5146
Voyager Financial News.com | United Kingdom | 82-5141
Voyagerit.com plc | United Kingdom | 82-5140
VRX Worldwide Inc | Canada | 82-4669
Vtech Holdings Ltd | Bermuda | 82-3565
Walmart de Mexico S.A. de C.V | Mexico | 82-4609
Wanadoo | France | 82-5150
Western Pinnacle Mining Ltd | Canada | 82-2418
Westone Ventures Inc | Canada | 82-4890
Wienerberger Baustoffindustrie AG | Austria | 82-4316
Windarra Minerals Ltd | Canada | 82-561
Wing Tai Holdings Ltd | Singapore | 82-4632
Woodside Petroleum Ltd | Australia | 82-2280
Wrightson Ltd | New Zealand | 82-3646
X-Cal Resources Ltd | Canada | 82-1655
Yaroslavsky OJS Company of Energy & Electric | Russia | 82-5144
Yeebo International Holdings Ltd | Bermuda | 82-3869
Zero Hora-Editora Jornalistica S.A | Brazil | 82-4337
Zhejiang Expressway Co. Ltd | China | 82-34629
Zhejiang Southeast Electric Power Co. Ltd | China | 82-34633

[FR Doc. 02-11230 Filed 5-6-02; 8:45 am]

BILLING CODE 8010-01-P